FEDERAL ELECTION COMMISSION

Sunshine Act Meeting

AGENCY: Federal Election Commission.

DATE AND TIME: Tuesday, March 15, 2016 at 10:00 a.m. and Wednesday, March 16, 2016 at the Conclusion of the Open Meeting.

PLACE 999 E Street NW., Washington, DC.

STATUS: This meeting will be closed to the public.

Federal Register Notice of Previous Announcement—81 FR 12731

THIS ITEM WAS ALSO DISCUSSED: Information the premature disclosure of which would be likely to have a considerable adverse effect on the implementation of a proposed Commission action.

* * * * *

PERSON TO CONTACT FOR INFORMATION: Judith Ingram, Press Officer, Telephone: (202) 694-1220.

Shawn Woodhead Werth,
Secretary and Clerk.

[FR Doc. 2016-06435 Filed 3-17-16; 4:15 pm]

BILLING CODE 6715-01-P